DEPARTMENT OF ENERGY

Federal Energy Regulatory Commission

[Docket No. CP05-397-000]

Trunkline Gas Company, LLC; Notice of Application

August 10, 2005.

Take notice that on August 1, 2005, Trunkline Gas Company, LLC (Trunkline), P. O. Box 4967, Houston, Texas 77210-4967, filed in Docket No. CP05-397-000, an abbreviated application pursuant to section 7(b) of the Natural Gas Act (NGA) to abandon, by sale, a lateral consisting of approximately 7.26 miles of 10-inch pipeline located in High Island A-376, Offshore Texas, and certain laterals in Blocks 268, 269 and 281, South Marsh Island Area (North Addition), Offshore, Louisiana to the Apache Corporation. Trunkline also requests a determination under section 1(b) of the NGA the upon abandonment the subject facilities with be non-jurisdictional gathering facilities, all as more fully set forth in the application which is on file with the Commission and open to public inspection. This filing may be also viewed on the Web at http://www.ferc.gov using the “eLibrary” link. Enter the docket number excluding the last three digits in the docket number field to access the document. For assistance, call (866) 208-3676 or TTY, (202) 502-8659.

Any questions regarding this application may be directed to William W. Grygar, Vice President, Rates and Regulatory Affairs, at (713) 989-7000, Trunkline Gas Company, LLC, 5444 Westheimer Road, Houston, Texas 77056.

There are two ways to become involved in the Commission's review of this project. First, any person wishing to obtain legal status by becoming a party to the proceedings for this project should, before the comment date of this notice, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments, protests and interventions may be filed electronically via the Internet in lieu of paper. See, 18 CFR 385.2001(a)(1)(iii) and the instructions on the Commission's Web site under the “e-Filing” link.

Comment Date: August 22, 2005.

Linda Mitry,
Deputy Secretary.

[FR Doc. E5-4434 Filed 8-15-05; 8:45 am]

BILLING CODE 6717-01-P